INTERNATIONAL TRADE COMMISSION

[USITC SE-20-007]

Sunshine Act Meetings

Agency Holding the Meeting: United States International Trade Commission.

TIME AND DATE: March 4, 2020 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. No. 731-TA-1143 (Second Review)(Small Diameter Graphite Electrodes from China). The Commission is currently scheduled to complete and file its determination and views of the Commission by March 23, 2020.

5. Outstanding action jackets: None.

CONTACT PERSON FOR MORE INFORMATION: William Bishop, Supervisory Hearings and Information Officer, 202-205-2595.

The Commission is holding the meeting under the Government in the Sunshine Act, 5 U.S.C. 552(b). In accordance with Commission policy, subject matter listed above, not disposed of at the scheduled meeting, may be carried over to the agenda of the following meeting.

By order of the Commission.
Issued: February 24, 2020.
William Bishop,
Supervisory Hearings and Information Officer.

[FR Doc. 2020-04124 Filed 2-25-20; 4:15 pm]

BILLING CODE 7020-02-P